DEPARTMENT OF HEALTH AND HUMAN SERVICES

Administration for Children and Families

Submission for OMB Review; Interstate Administrative Subpoena and Notice of Interstate Lien (OMB #0970-0152)

AGENCY: Office of Child Support Enforcement; Administration for Children and Families; HHS.

ACTION: Request for public comment.

SUMMARY: The Administration for Children and Families (ACF) is requesting a 3-year extension of the Interstate Administrative Subpoena and Notice of Interstate Lien forms (OMB #0970-0152, expiration 7/31/2021). There are no changes requested to these forms.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Administrative Subpoena is used by State IV-D agencies to obtain income and other financial information regarding noncustodial parents for purposes of establishing, enforcing, and modifying child support orders. The Notice of Interstate Lien imposes liens in cases with overdue support and allows a State IV-D agency to file liens across state lines, when it is more efficient than involving the other state's IV-D agency. Section 452 (a) (11) of the Social Security Act requires the Secretary of the Department of Health and Human Services to promulgate forms for administrative subpoenas and imposition of liens used by state child support enforcement (Title IV-D) agencies in interstate cases. Section 454(9)(E) of the Social Security Act requires each state to cooperate with any other state in using the federal forms for issuance of administrative subpoenas and imposition of liens in interstate child support cases.

Respondents: State, local, or tribal agencies administering a child support enforcement program under title IV-D of the Social Security Act.

Annual Burden Estimates
Instrument | Annual number of respondents | Annual number of responses per respondent | Average burden hours per response | Annual burden hours
Administrative Subpoena | 27,763 | 1 | .50 | 13,882
Notice of Lien | 1,786,988 | 1 | .50 | 893,494

Estimated Total Annual Burden Hours: 907,376.

Authority: 42 U.S.C. 652; 42 U.S.C. 654.

Mary B. Jones,
ACF/OPRE Certifying Officer.

[FR Doc. 2021-08249 Filed 4-20-21; 8:45 am]

BILLING CODE 4184-41-P